INTER-AMERICAN FOUNDATION

Sunshine Act Meetings

TIME AND DATE: Monday, December 16, 2024 9:30am-11:00am

PLACE: Hybrid with public attendance held virtually

STATUS: Meeting of the Board of Directors, open to the public

MATTERS TO BE CONSIDERED:

D Call to Order

D Overview of Meeting Rules by General Counsel

D Approval of Minutes from May 7, 2024 Meeting

D Fiscal Year 2024 in Review

D Fiscal Year 2025 Planning:

—Strategic Priorities

—Programs & Fellowships Updates

—Operational Updates: Move and Staff

D Adjournment

CONTACT PERSON FOR MORE INFORMATION: Nicole Stinson, Associate General Counsel, (202) 683-7117 or generalcounsel@iaf.gov.

For Dial-in Information contact: Nicole Stinson, Associate General Counsel, generalcounsel@iaf.gov.

The Inter-American Foundation is holding this meeting under the Government in the Sunshine Act, 5 U.S.C. 552b and 22 CFR 1004.

Natalia Mandrus,
Associate General Counsel.

[FR Doc. 2024-28393 Filed 11-29-24; 4:15 pm]

BILLING CODE 7025-01-P